DEPARTMENT OF ENERGY

Federal Energy Regulatory Commission

[Project No. 7528-009]

Public Service Company of New Hampshire; Notice of Application Accepted for Filing, Soliciting Motions To Intervene and Protests, Ready for Environmental Analysis, and Soliciting Comments, Recommendations, Preliminary Terms and Conditions, and Preliminary Fishway Prescriptions

September 25, 2007.

Take notice that the following hydroelectric application has been filed with the Commission and is available for public inspection.

a. Type of Application: Subsequent License.

b. Project No.: 7528-009.

c. Date Filed: July 30, 2007.

d. Applicant: Public Service Company of New Hampshire.

e. Name of Project: Canaan Hydroelectric Project.

f. Location: The project is located on the northern Connecticut River in Coos County, New Hampshire and Essex County, Vermont. The project does not occupy United States land.

g. Filed Pursuant to: Federal Power Act 16 U.S.C. 791 (a)-825(r).

h. Applicant Contact: James K. Kerns, Project Manager, Public Service Company of New Hampshire, 780 North Commercial Street, Manchester, NH 03101 (603) 634-2936.

i. FERC Contact: Kristen Murphy (202) 502-6236 or kristen.murphy@ferc.gov.

j. The deadline for filing motions to intervene and protests, comments, recommendations, preliminary terms and conditions, and preliminary fishway prescriptions is November 27, 2007, in accordance with the schedule set by the Commission's August 10, 2007, Notice of Application Tendered; reply comments are due 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, recommendations, preliminary terms and conditions, and preliminary fishway prescriptions may be filed electronically via the Internet in lieu of paper. The Commission strongly encourages electronic filings. See 18 CFR 385.2001(a)(1)(iii) and the instructions on the Commission's web site (http://www.ferc.gov) under the “e-Filing” link.

k. This application has been accepted for filing and is ready for environmental analysis.

l. The existing project consist of: (1) A 275-foot-long, 14.5-foot-high concrete gravity dam with a spillway equipped with 3.5-foot-high wooden flashboards, utilized year-round; (2) a 20-acre reservoir with a gross storage capacity of approximately 200 acre-feet; (3) an intake structure with a 12.5-foot-wide, 12-foot-high timber gate leading to; (4) a 1,360-foot-long, 9-foot-diameter wood stave penstock; (5) two 21.3-foot-high, 15.3-foot-diameter steel surge tanks; (6) a powerhouse with one generating unit with an installed capacity of 1,100 kW; and (7) appurtenant facilities. The estimated average annual generation of the project is 7,300 megawatt-hours.

The project is currently operated in a run-of-river mode. Under the existing license, a total minimum flow of 136 cfs or inflow, whichever is less, is released downstream of the dam, with 50 cfs released through the 1,600-foot-long bypassed reach and the remaining 86 cfs released through the project turbine. As proposed, the project would continue to be operated in a run-of-river mode. Further, a total minimum flow of 165 cfs or inflow, whichever is less, would be released downstream of the project dam through the bypassed reach.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659. A copy is also available for inspection and reproduction at the address in item h above.

Register online at http://www.ferc.gov/esubscribenow.htm to be notified via email of new filings and issuances related to this or other pending projects. For assistance, contact FERC Online Support.

n. Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) Bear in all capital letters the title “PROTEST”, “MOTION TO INTERVENE”, “COMMENTS,” “REPLY COMMENTS,” “RECOMMENDATIONS,” “PRELIMINARY TERMS AND CONDITIONS,” or “PRELIMINARY FISHWAY PRESCRIPTIONS;” (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule:

The application will be processed according to the following Hydro Licensing Schedule, as described in the Commission's August 10, 2007 Notice of Application Tendered. Revisions to the schedule may be made as appropriate.

Milestone | Target date
Filing of recommendations, preliminary terms and conditions, and preliminary fishway prescriptions | November 27, 2007.
Commission issues Non-Draft EA or EIS | March 26, 2008.
Comments on EA or EIS | April 25, 2008.
Modified terms and conditions | June 24, 2008.

p. Final amendments to the application must be filed with the Commission no later than 30 days from the issuance date of this notice.

q. A license applicant must file no later than 60 days following the date of issuance of the notice of acceptance and ready for environmental analysis provided for in § 5.22: (1) A copy of the water quality certification; (2) a copy of the request for certification, including proof of the date on which the certifying agency received the request; or (3) evidence of waiver of water quality certification.

Kimberly D. Bose,
Secretary.

[FR Doc. E7-19772 Filed 10-5-07; 8:45 am]

BILLING CODE 6717-01-P